DEPARTMENT OF ENERGY

[OE Docket No. PP-412]

Application for Presidential Permit; ITC Lake Erie Connector Project

AGENCY: Office of Electricity Delivery and Energy Reliability, DOE.

ACTION: Notice of application.

SUMMARY: ITC Lake Erie Connector LLC (ITC Lake Erie) has applied for a Presidential Permit to construct, operate, maintain, and connect an electric transmission line across the United States border with Canada.

DATES: Comments or motions to intervene must be submitted on or before August 17, 2015.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov, Katherine Konieczny (Program Attorney) at 202-586-0503.

SUPPLEMENTARY INFORMATION: The construction, operation, maintenance, and connection of facilities at the international border of the United States for the transmission of electric energy between the United States and a foreign country is prohibited in the absence of a Presidential Permit issued pursuant to Executive Order (E.O.) 10485, as amended by E.O. 12038.

On May 29, 2015, ITC Lake Erie filed an application with the Office of Electricity Delivery and Energy Reliability of the Department of Energy (DOE) for a Presidential Permit. ITC Lake Erie has it principal place of business in Novi, Michigan. ITC Lake Erie is a wholly-owned subsidiary of ITC Lake Erie Holdings LLC, which is, though another entity, a wholly-owned subsidiary of ITC Holdings Corp.

ITC Lake Erie proposes to construct and operate the ITC Lake Erie Connector Project (the project), a ± 320 kilovolt (kV) high-voltage direct current (HVDC) bi-directional electric transmission line that would originate Haldimand County, Ontario, Canada, and terminate in Erie County, Pennsylvania. The proposed project facilities would be capable of transmitting up to 1000 megawatts (MW) of power.

The U.S. portion of the proposed project would cross the U.S.-Canada border in Lake Erie as a submerged line, buried in the lake bed, and would run approximately 35.4 miles before reaching the shore on private property, west of Erie Bluffs Park. From the shore, the line would be buried underground for approximately 7.1 miles, along mostly roadway rights-of-way and terminate at the proposed Erie Converter Station. From the Erie Converter Station, a 345 kV alternating current (AC) transmission line would run approximately 1,900-3,000 feet (depending on final routing) underground and connect into the U.S. grid at the existing Erie West Substation owned by Penelec. The total length of the Project would be 72.4 miles, with the U.S. portion totaling about 42.5 miles.

The Project would be operated in accordance with the established engineering and technical criteria of the Independent System Operator of Ontario (IESO) and the PJM Interconnection (PJM). In the U.S., the Project would be placed under operational control of PJM.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶31,036 (1996)), as amended. In furtherance of this policy, DOE invites comments on whether it would be appropriate to condition any Presidential Permit issued in this proceeding on compliance with these open access principles.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Andrew Jamieson, Counsel, ITC Holdings Corp., 27175 Energy Way, Novi, MI 48377, ajamieson@itctransco.com AND John R. Staffier, Stunz, Davis & Staffier, P.C., 555 Twelfth Street NW., Suite 360, Washington, DC 20004, jstaffier@sdatty.com AND Ellen S. Young, Stunz, Davis & Staffier, P.C., 555 Twelfth Street NW., Suite 360, Washington, DC 20004 eyoung@sdatty.com.

Before a Presidential Permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential Permit application.

Copies of this application will be made available, upon request, for public inspection and copying at the address provided above, or by accessing the program Web site at http://energy.gov/oe/services/electricity-policy-coordination-and-implementation/international-electricity-regulatio-2.

Issued in Washington, DC, on July 13, 2015.
Christopher A. Lawrence,
Electricity Policy Analyst, National Electricity Delivery Division, Office of Electricity Delivery and Energy Reliability, U.S. Department of Energy.

[FR Doc. 2015-17655 Filed 7-16-15; 8:45 am]

BILLING CODE 6450-01-P